DEPARTMENT OF STATE

[Public Notice:12738]

Determination and Certification of Countries Not Cooperating Fully With Antiterrorism Efforts

Pursuant to section 40A of the Arms Export Control Act (22 U.S.C. 2781), and Executive Order 13637, as amended, I hereby determine and certify to the Congress that the following countries are not cooperating fully with United States antiterrorism efforts: Cuba, Democratic People's Republic of Korea (DPRK), Iran, Syria, and Venezuela.

This determination and certification shall be transmitted to the Congress and published in the Federal Register.

Dated: May 7, 2025.
Marco Rubio,
Secretary of State.

[FR Doc. 2025-09807 Filed 5-29-25; 8:45 am]

BILLING CODE 4710-AD-P